DEPARTMENT OF ENERGY

Federal Energy Regulatory Commission

18 CFR Part 35

[Docket Nos. RM01-8-000, RM10-12-000, RM12-3-000, ER02-2001-000]

Filing Requirements for Electric Utility Service Agreements; Electricity Market Transparency Provisions of Section 220 of the Federal Power Act; Revisions to Electric Quarterly Report Filing Process; Electric Quarterly Reports

AGENCY: Federal Energy Regulatory Commission, DOE.

ACTION: Order Revising and Clarifying Electric Quarterly Report Reporting Requirements.

SUMMARY: The Commission revises its Electric Quarterly Report (EQR) reporting requirements to require time zone information to be reported in connection with transmission capacity reassignments. The Commission declines to adopt proposals to require transmission providers to report ancillary services transaction data in the EQR or to require filers to submit certain information currently submitted into the eTariff system in the EQR. However, the Commission clarifies the information that should be reported in the EQR with respect to ancillary services, including black start service, and tariff-related information. Finally, with respect to booked out transactions, the Commission declines to adopt the proposal to require filers to distinguish between booked out energy and booked out capacity.

DATES: This rule is effective September 14, 2020.

FOR FURTHER INFORMATION CONTACT:

Donald Callow (Technical Information), Office of Enforcement, Federal Energy Regulatory Commission, 888 First Street NE, Washington, DC 20426, (202) 502-8838

Maria Vouras (Legal Information), Office of Enforcement, Federal Energy Regulatory Commission, 888 First Street NE, Washington, DC 20426, (202) 502-8062

SUPPLEMENTARY INFORMATION:

Table of Contents

| Paragraph Nos.
I. Background | 2
II. Discussion | 5
A. Ancillary Services Transactions | 7
1. Proposed Rule | 7
2. Comments | 11
3. Commission Determination | 21
B. FERC Tariff Reference (Field Numbers 19 and 48) | 26
1. Proposed Rule | 26
2. Comments | 27
3. Commission Determination | 38
C. Time Zone Field for Transmission Capacity Reassignments | 40
1. Proposed Rule | 40
2. Comments | 41
3. Commission Determination | 43
D. Booked Out Transactions | 47
1. Proposed Rule | 47
2. Comments | 50
3. Commission Determination | 58
E. Other Issues | 60
1. Comments | 60
2. Commission Determination | 63
III. Information Collection Statement | 66
IV. Environmental Analysis | 73
V. Regulatory Flexibility Act | 74
VI. Document Availability | 76
VII. Effective Date and Congressional Notification | 79

1. In this order, pursuant to sections 205 and 220 of the Federal Power Act (FPA),¹ we revise and clarify certain Electric Quarterly Report (EQR) reporting requirements and make corresponding updates to the EQR Data Dictionary based on the comments received in response to the proposed rule issued in this proceeding.² In particular, we will require filers reporting transmission capacity reassignments to report time zone information in the Contract Data section of the EQR. We decline to adopt the proposed requirements in the Proposed Rule to require transmission providers to report ancillary services transaction data in the EQR or to require the collection of certain tariff-related information in the EQR that is currently submitted into the eTariff system, but we do clarify the information that should be reported in the EQR with respect to ancillary services and tariff-related information. Specifically, with regard to reporting black start service information in the EQR, we clarify that filers should report only seller-level (not unit-specific) information to minimize the possible disclosure of sensitive information. Finally, with respect to booked out transactions, we do not adopt the proposal to require filers to report booked out energy transactions separately from booked out capacity transactions. As discussed further below, Commission staff will discuss reporting of booked out transactions with industry at a future EQR Users Group meeting before the Commission provides further guidance on how to report these transactions in the EQR.

¹ 16 U.S.C. 824d, 824t.

² Filing Requirements for Elec. Util. Serv. Agreements, 81 FR 69731 (Oct. 7, 2016), 156 FERC ¶ 61,211 (2016) (Proposed Rule).

I. Background

2. In Order No. 2001, the Commission amended its filing requirements to require companies subject to Commission regulations under FPA section 205 to electronically file EQRs summarizing the contractual terms and conditions in their agreements for all jurisdictional services, including cost-based sales, market-based rate sales, and transmission service, as well as transaction information for short-term and long-term market-based power sales and cost-based power sales.³ In Order No. 768, the Commission, among other things, revised the EQR filing requirement to require non-public utilities with more than a de minimis market presence to file EQRs, pursuant to FPA section 220.⁴

³ Revised Pub. Util. Filing Requirements, Order No. 2001, 67 FR 31043 (May 8, 2002), 99 FERC ¶ 61,107, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, order on reh'g and clarification, Order No. 2001-H, 73 FR 1876 (Jan. 10, 2008), 121 FERC ¶ 61,289 (2007), order revising filing requirements, Order No. 2001-I, 73 FR 65526 (Nov. 4, 2008), 125 FERC ¶ 61,103 (2008).

⁴ Elec. Mkt. Transparency Provisions of Section 220 of the Federal Power Act, Order No. 768, 77 FR 61895 (Oct. 11, 2012), 140 FERC ¶ 61,232 (2012), order on reh'g, Order No. 768-A, 143 FERC ¶ 61,054 (2013), order on reh'g, Order No. 768-B, 150 FERC ¶ 61,075 (2015).

3. In June 2016, the Commission issued an order implementing certain clarifications to the EQR reporting requirements and updating the EQR Data Dictionary.⁵ The June Order clarified reporting requirements related to EQR Data Dictionary Fields, Increment Name and Commencement Date of Contract Terms; affirmed the requirement that transmission providers must report transmission-related data in their EQRs; made certain updates to the EQR Data Dictionary; and clarified that future minor or non-material changes to EQR reporting requirements and the EQR Data Dictionary, such as those outlined in the June Order, will be posted directly to the Commission's website and EQR users will be alerted via email of these changes. The June Order further clarified that significant changes to the EQR reporting requirements and EQR Data Dictionary will be proposed in a Commission order or rulemaking, which would provide an opportunity for comment.⁶ On rehearing, the Commission granted clarification with respect to reporting the “Increment Name” and the “Commencement Date of Contract Terms” and extended the deadline to comply with these clarifications to the Q1 2017 EQR filing.

⁵ Filing Requirements for Elec. Util. Serv. Agreements, 155 FERC ¶ 61,280 (June Order), order on reh'g and clarification, 157 FERC ¶ 61,180 (2016) (December Order).

⁶ June Order, 155 FERC ¶ 61,280 at P 5.

4. In 2016, the Commission requested comments on proposed revisions and clarifications of certain EQR reporting requirements and corresponding updates to the EQR Data Dictionary.⁷ The Commission specifically sought comments on whether to require: (a) Transmission providers to report ancillary services transaction data; (b) filers to submit into the FERC Tariff Reference fields in the EQR certain tariff-related information that they currently submit in the eTariff system; and (c) filers to submit time zone information in connection with transmission capacity reassignment transactions. The Commission also proposed to clarify how booked out transactions should be reported in the EQR. In addition, the Commission explained that, unlike the minor or non-material changes implemented in the June Order, the proposed revisions and clarifications in the Proposed Rule may be more significant for EQR filers to implement.

⁷ Proposed Rule, 156 FERC ¶ 61,211.

II. Discussion

5. Bonneville Power Administration (Bonneville), California Independent System Operator Corporation (CAISO), Duke Energy Corporation (Duke), Edison Electric Institute (EEI), Electric Power Supply Association (EPSA), Energy Compliance Consulting, LLC (ECC),⁸ Midcontinent Independent System Operator, Inc. (MISO), PJM Interconnection, L.L.C. (PJM), and Southwest Power Pool, Inc. (SPP) filed comments in response to the Proposed Rule.

⁸ ECC states that it supports the comments filed by Duke and EEI in this proceeding. ECC Comments at 1.

6. As discussed above, in this order, we adopt only the requirement to report time zone information for transmission capacity reassignments. Filers will be required to do so by April 30, 2021, when the Q1 2021 EQR filings are due. In addition, the revisions to the EQR Data Dictionary adopted in this order are reflected in redline in Attachment A of this order. These revisions must also be applied by April 30, 2021, when the Q1 2021 EQR filings are due.

A. Ancillary Services Transactions

1. Proposed Rule

7. In Order No. 888, the Commission adopted six ancillary services to be included in the open access transmission tariff (OATT).⁹ The six ancillary services established in Order No. 888 are offered under the pro forma OATT. In Order No. 890, the Commission also adopted Generator Imbalance as a new ancillary service.¹⁰

⁹ Promoting Wholesale Competition Through Open Access Non-discriminatory Transmission Services by Public Utilities; Recovery of Stranded Costs by Public Utilities and Transmitting Utilities, Order No. 888, 61 FR 21540 (May 10, 1996), FERC Stats. & Regs. ¶ 31,036 (1996) (cross-referenced at 77 FERC ¶ 61,080), order on reh'g, Order No. 888-A, 62 FR 12274 (Mar. 14, 1997), FERC Stats. & Regs. ¶ 31,048 (cross-referenced at 78 FERC ¶ 61,220), order on reh'g, Order No. 888-B, 81 FERC ¶ 61,248 (1997), order on reh'g, Order No. 888-C, 82 FERC ¶ 61,046 (1998), aff'd in relevant part sub nom. Transmission Access Policy Study Group v. FERC, 225 F.3d 667 (DC Cir. 2000), aff'd sub nom. New York v. FERC, 535 U.S. 1 (2002). The ancillary services available under the Order No. 888 OATT were Scheduling, System Control and Dispatch (Schedule 1); Reactive Supply and Voltage Control (Schedule 2); Regulation and Frequency Response (Schedule 3); Energy Imbalance (Schedule 4); Operating Reserve-Spinning Reserve (Schedule 5), and Operating Reserve-Supplemental Reserve (Schedule 6).

¹⁰ Preventing Undue Discrimination and Preference in Transmission Service, Order No. 890, 72 FR 12266 (Mar. 15, 2007), 118 FERC ¶ 61,119, order on reh'g, Order No. 890-A, 73 FR 2984 (Jan. 16, 2008), 121 FERC ¶ 61,297 (2007), order on reh'g, Order No. 890-B, 73 FR 39092 (July 8, 2008), 123 FERC ¶ 61,299 (2008), order on reh'g, Order No. 890-C, 74 FR 12540 (Mar. 25, 2009), 126 FERC ¶ 61,228, order on clarification, Order No. 890-D, 74 FR 61511 (Nov. 25, 2009), 129 FERC ¶ 61,126 (2009).

8. In Order No. 697, the Commission revised its standards for market-based rate authority for sales of electric energy, capacity, and ancillary services.¹¹ Among other things, the Commission required third-party sellers of ancillary services at market-based rates to provide information about their ancillary services transactions in the EQR.¹² Following the issuance of Order No. 697, in Order No. 2001-I, the Commission clarified that third-party providers of ancillary services must submit information about their ancillary services associated with unbundled sales of transmission services in the Transaction Data section of the EQR, and that information about ancillary services reported by transmission providers should only be reported in the Contract Data section of the EQR.¹³ Accordingly, the Commission revised the EQR Data Dictionary definitions for certain ancillary services-related product names in Appendix A to state: “For Contracts, reported if the contract provides for sale of the product. For Transactions, sales by third-party providers (i.e., non-transmission function) are reported.” ¹⁴

¹¹ Market-Based Rates for Wholesale Sales of Elec. Energy, Capacity & Ancillary Servs. by Pub. Utils., Order No. 697, 72 FR 39904 (Jul. 20, 2007), 119 FERC ¶ 61,295, clarified, 121 FERC ¶ 61,260 (2007), order on reh'g, Order No. 697-A, 73 FR 25832 (May 7, 2008), 123 FERC ¶ 61,055, order on reh'g, Order No. 697-B, 73 FR 79610 (Dec. 30, 2008), 125 FERC ¶ 61,326 (2008), order on reh'g, Order No. 697-C, 74 FR 30924 (June 29, 2009), 127 FERC ¶ 61,284 (2009), order on reh'g, Order No. 697-D, 75 FR 14342 (Mar. 25, 2010), 130 FERC ¶ 61,206 (2010), aff'd sub nom. Mont. Consumer Counsel v. FERC, 659 F.3d 910 (9th Cir. 2011), cert. denied sub nom. Pub. Citizen, Inc. v. FERC, 567 U.S. 934 (2012).

¹² Order No. 697, 119 FERC ¶ 61,295 at PP 1057-58.

¹³ Order No. 2001-I, 125 FERC ¶ 61,103 at PP 29-30.

¹⁴ Id. P 29.

9. As stated above, the Commission currently requires transmission providers to report only information about their ancillary services agreements in the Contract Data section of the EQR, while third-party providers of ancillary services must report information about their ancillary services in both the Contract Data and Transaction Data sections of the EQR. In the Proposed Rule, the Commission proposed to require transmission providers to report information about the transactions made under their ancillary services agreements in the Transaction Data section of the EQR. The Commission explained that, without information about their ancillary services transactions, there is currently inadequate visibility into the actual sales and rates being charged by transmission providers for ancillary services, especially where they have increased their reliance on markets to meet their ancillary services obligations. The Commission reasoned that this information would increase price transparency into the wholesale ancillary services markets and would better enable it to evaluate the competitiveness of these markets as well as strengthen its ability to monitor them.¹⁵

¹⁵ Proposed Rule, 156 FERC ¶ 61,211 at P 8.

10. In the Proposed Rule, the Commission also proposed to delete from the definitions of certain ancillary services products, i.e., Energy Imbalance, Generator Imbalance, Regulation & Frequency Response, Spinning Reserve and Supplemental Reserve, listed in Appendix A of the EQR Data Dictionary, the following language: “For Transactions, sales by third-party providers (i.e., non-transmission function) are reported.” ¹⁶

¹⁶ Id.

2. Comments

11. Several commenters do not oppose the Commission's proposed requirement, but nevertheless request that it should not apply to them. MISO states that it does not object to the proposed deletion from the definition of ancillary services-related product names in the EQR Data Dictionary.¹⁷ However, MISO, CAISO, and PJM state that the Proposed Rule is unclear with respect to whether regional transmission organizations (RTOs) and independent system operators (ISOs) will be required to report ancillary services transaction data.¹⁸ PJM explains that clarifying that the proposed requirement that transmission providers report ancillary services transaction data does not apply to RTOs is consistent with Commission precedent.¹⁹ MISO, CAISO, and PJM argue that, if the Commission intended to include RTOs in the proposed requirement, the Commission should exempt RTOs from such an obligation.²⁰ In the alternative, CAISO requests that the Commission clarify that RTOs and ISOs could satisfy the proposed requirement by demonstrating that ancillary services transaction data is available through other means.²¹

¹⁷ MISO Comments at 2.

¹⁸ Id. at 2-3; CAISO Comments at 2; PJM Comments at 6-7.

¹⁹ PJM Comments at 6-7.

²⁰ MISO Comments at 3-4; CAISO Comments at 3; PJM Comments at 8.

²¹ CAISO Comments at 3.

12. MISO asserts that, because the Commission already receives ancillary services transaction data from each MISO participant in their EQR filings, an exemption for RTOs and ISOs is appropriate and that also requiring RTOs and ISOs to file this data would result in duplicate data and a significant administrative burden.²² MISO asks that the Commission instead continue the current practice of accepting ancillary services transaction data submitted by each individual market participant.²³

²² MISO Comments at 3-4.

²³ Id. at 4.

13. PJM likewise explains that it already reports the contract data associated with transmission contracts, including ancillary services transactions, in its EQRs.²⁴ PJM states that, for transaction data, the Commission has recognized that market participants within PJM already report this data in their EQRs from their sales within PJM.²⁵ PJM also states that PJM Settlement L.L.C. is simply a facilitating counterparty to the bids and offers of market participants with respect to pool transactions, and is not a market seller. PJM adds that, because sellers sell into the pool and buyers buy from the pool, there is no one-to-one relationship from seller to buyer and, therefore, PJM currently cannot match sellers to buyers for ancillary services transactions and cannot report ancillary services transaction data in the EQR.²⁶ CAISO and PJM also argue that the proposed requirement would duplicate information provided to the Commission pursuant to Order No. 760.²⁷

²⁴ PJM Comments at 7.

²⁵ Id. at 7-8.

²⁶ PJM Comments at 8-9.

²⁷ CAISO Comments at 2-3 (citing Enhancement of Elec. Mkt. Surveillance and Analysis through Ongoing Electronic Delivery of Data from Regional Transmission Orgs. and Indep. Sys. Operators, Order No. 760, 77 FR 26674 (May 7, 2012), 139 FERC ¶ 61,053 (2012)); PJM Comments at 9-10 (same).

14. In addition, CAISO notes that the Commission did not explain how there is inadequate visibility into the actual sales and rates being charged for ancillary services when those sales clear through a market operator.²⁸ PJM similarly argues that the proposed reporting requirement, if applied to PJM or other RTOs, would not help the Commission with its goal of increasing price transparency.²⁹ CAISO also explains that it is unclear how RTOs and ISOs can report ancillary services when they are subject to market clearing and cost allocation processes,³⁰ whereas PJM explains that the proposed requirement is not feasible given PJM's ancillary services transaction settlement process.³¹ PJM also contends that this proposed requirement, if applied to PJM, risks disclosure of commercially sensitive information because it would require PJM to identify sellers of ancillary services, which in turn would require disclosure of cleared offers in the PJM market. PJM further states that the disclosure of cleared offers could be used for market manipulation purposes as competitors would be able to see each other's offers.³² PJM also argues that disclosure of certain types of ancillary services transaction data (e.g., regarding black start service) could implicate Critical Energy Infrastructure Information (CEII) and compromise the security of a public utility's physical and/or cyber assets.³³

²⁸ CAISO Comments at 2.

²⁹ PJM Comments at 8-9.

³⁰ CAISO Comments at 2.

³¹ PJM Comments at 8-9.

³² Id. at 10.

³³ Id.

15. EEI, Bonneville, and Duke oppose the Commission's proposal, arguing that it duplicates ancillary services information reported in the EQR, FERC Form No. 1, eTariff, Open Access Same-Time Information System (OASIS) postings, or FPA section 205 proceedings. EEI believes that, because transmission providers provide ancillary services at cost-based rates specified in their OATTs or at RTO or ISO rates, which are reported in their FERC Form No. 1, requiring this information to be filed in EQRs would duplicate information the Commission already has.³⁴ EEI argues further that requiring transmission providers to report ancillary services provided by integrated utilities at rates other than OATT or RTO or ISO rates through marketing arms and already reported in third-party transactions in the EQR would be too burdensome.³⁵ EEI requests that, if the Commission does require general reporting of ancillary services transactions, it should ensure that only transactions not already reflected in the FERC Form No. 1 or at an RTO or ISO rate need to be reported.³⁶ EEI also requests that the Commission specify the actual EQR reporting fields and EQR Data Dictionary requirements being affected and where the new information is to be reported.³⁷

³⁴ EEI Comments at 4.

³⁵ Id. at 4-5.

³⁶ Id. at 5.

³⁷ EEI Comments at 5. ECC also supports these comments. ECC Comments at 1.

16. Bonneville seeks clarification that the Proposed Rule's reference to transactions in “wholesale ancillary services markets” means markets where transmission customers can separately transact or negotiate charges for ancillary services.³⁸ Bonneville states that it does not operate a stand-alone wholesale ancillary services market and, while it does have separate posted rates for ancillary services, it does not sell or transact those services independently from its sale of transmission service. Bonneville states that its transmission function does not market or offer any ancillary services as a stand-alone service on its OASIS or otherwise; rather, ancillary services are included in the transmission service agreement with the customer and calculated as part of the customer's transmission service bill.³⁹ Bonneville seeks clarification from the Commission that a transmission provider does not have to report ancillary services transactions that are provided pursuant to generally applicable rates for OATT service and not at negotiated or market-based rates.⁴⁰

³⁸ Bonneville Comments at 4.

³⁹ Id.

⁴⁰ Id. at 4-5.

17. Bonneville argues that the proposed requirement would be a burden and would not further the Commission's goal of price transparency because the Commission reviews and approves the cost-based ancillary services rates of jurisdictional utilities and reviews and confirms Bonneville's ancillary services rates under section 7 of the Pacific Northwest Electric Power Planning and Conservation Act.⁴¹ Bonneville requests, instead, that the Commission specify the precise transactions for which it does not have the information it seeks.⁴² Bonneville requests that, because it is unclear how the proposed requirement would apply to Bonneville as it does not operate an ancillary services market, the Commission exempt transmission providers that make ancillary services transactions pursuant to their OATTs, and not at negotiated or market-based rates.⁴³ Bonneville also points out that the Commission substantially underestimates the cost to Bonneville to implement the proposed requirement, given the complexity of the ancillary services transactions it deals with during each quarter.⁴⁴ Bonneville states that its internal EQR reporting tool would need to interface with four other Bonneville systems, map information pulled from each system to create a composite transaction record after the fact, and convert that data into a format that meets the specifications in the EQR Data Dictionary.⁴⁵

⁴¹ Id. at 3.

⁴² Id. at 3-4.

⁴³ Id. at 4-5.

⁴⁴ Id. at 5-6.

⁴⁵ Id. at 4-5.

18. Duke disagrees with the Commission's basis for the proposed requirement, noting that the Contract Data section of the EQR is intended to include rates for sales of ancillary services by transmission providers and already provides adequate visibility.⁴⁶ For the ancillary services price data that is not visible, Duke suggests that the solution is to instead clarify the use of rate fields to ensure such visibility.⁴⁷ Duke further explains that it is unclear what type of monitoring the Commission intends with the proposed requirement and requests that the Commission provide examples of how it intends to use the new data to ensure the data collection meets the Commission's goals.⁴⁸

⁴⁶ Duke explains that its comments are a supplement to EEI's comments. Duke Comments at 1.

⁴⁷ Id. at 2 n.3.

⁴⁸ Id. at 3.

19. In addition, Duke states that, for ancillary services at cost-based rates, transmission providers already provide this information through their EQRs, posted tariffs in eTariff, and OASIS postings.⁴⁹ Duke emphasizes that implementing the proposed requirement would require significant time and software changes and will likely require numerous further clarifications such that technical workshops should be held.⁵⁰

⁴⁹ Id.

⁵⁰ Id. at 3-4. ECC also supports these comments. ECC Comments at 1.

20. On rehearing of the June Order, ECC requested clarification of whether certain cost-based rate ancillary services sales should be reported in the Transaction Data section of the EQR and how they should be reported, if required. ECC stated that some utilities provide black start service and reactive power sales to RTOs and ISOs, and the prices are included in the RTO or ISO OATT. ECC requested clarification that, because these cost-based rate services are being sold under the RTO or ISO OATT, they do not need to be reported by the utility. ECC, Wisconsin Electric Power Company and Wisconsin Public Service Corporation (jointly, WEC Companies) also requested clarification that, if a utility is selling cost-based rate ancillary services to an RTO or ISO under the utility's own OATT, these cost-based rate ancillary services do not need to be reported in the contract or transaction portion of the EQR because they are sales under a transmission tariff that are not part of a wholesale power sale. In the December Order, the Commission stated that it will address these requests to clarify the reporting of ancillary services transactions in this proceeding.⁵¹

⁵¹ December Order, 157 FERC ¶ 61,180 at P 29.

3. Commission Determination

21. We will not adopt the proposed requirement for transmission providers to report information about their ancillary services transactions in the Transaction Data section of the EQR.⁵² We find that the information currently provided by transmission providers in the Contract Data section of the EQR is sufficient to ensure just and reasonable rates and adequate transparency into ancillary services markets. Ancillary services provided by public utility transmission providers are at cost-based rates pursuant to OATTs and the Commission has determined these rates to be just and reasonable and not unduly discriminatory. Upon consideration of the comments received, we conclude that, on balance, the benefit that would be gained from requiring transmission providers to report ancillary services transaction data in the EQR would be outweighed by the burden of providing this information.

⁵² As a result, the Commission will not implement the changes proposed in the Proposed Rule to the definitions of certain ancillary services-related product names in Appendix A of the EQR Data Dictionary.

22. Our determination not to require transmission providers to report ancillary services transaction data is consistent with Order No. 2001, in which the Commission stated that ancillary services transaction data associated with transmission need not be reported in the EQR when the transmission services are provided on an unbundled basis.⁵³ In addition, this order leaves unchanged the requirement set forth in Order No. 2001 that ancillary services transaction data must be reported in the EQR when the ancillary services are bundled with power sales.⁵⁴ Although we will continue our current practice of requiring transmission providers to report only ancillary services contract information in the EQR, we emphasize that a transmission-owning public utility is responsible for filing its transmission-related information in the EQR, including ancillary services contract data, pursuant to FPA section 205.⁵⁵ As with other transmission-related data, an RTO or ISO may file the requisite ancillary services contract data on behalf of the transmission-owning public utility, if authorized by the transmission-owning utility to do so.⁵⁶

⁵³ See Order No. 2001, 99 FERC ¶ 61,107 at PP 271-272.

⁵⁴ See id. For example, if the ancillary services are sold together with energy, the ancillary services sales information must be reported in both the Contract and Transaction Data sections of the EQR.

⁵⁵ See December Order, 157 FERC ¶ 61,180 at PP 27-28.

⁵⁶ See id.

23. We clarify that the intent of the Proposed Rule was not to change the current practice of requiring each individual RTO/ISO market participant to report its ancillary services data in the EQR or to require RTOs/ISOs to file ancillary services transaction data in addition to the transaction data currently filed by each RTO/ISO market participant. Pursuant to Order No. 697, a third-party provider (i.e., non-transmission function) making sales of ancillary services at market-based rates, including individual RTO/ISO market participants, should continue to report both ancillary services contract and transaction data in the EQR.⁵⁷ However, in response to the requests for clarification from ECC and WEC Companies noted in the December Order, we clarify that third-party providers of ancillary services making sales under a Commission-accepted cost-based rate schedule or tariff, including an RTO/ISO OATT, need only report information about those ancillary services sales in the Contract Data section of the EQR.⁵⁸

⁵⁷ If the Commission grants a seller market-based rate authority, the seller must comply with post-approval reporting requirements, including the filing of transaction-specific data in EQRs. See Order No. 697, 119 FERC ¶ 61,295 at P 962. Third-party providers of ancillary services at market-based rates are required to file EQRs to provide an adequate means for the Commission to monitor their ancillary services sales. See id. P 1058.

⁵⁸ These cost-based ancillary services sales can include sales of black start service and reactive power.

24. In reporting their ancillary services information in the EQR, transmission providers should mark the information as “T—Transmission” under Product Type Name (Field Number 30).⁵⁹ Third-party providers of ancillary services made at cost-based rates under a Commission-accepted rate schedule or tariff should report the information under the Product Type Name “CB—Cost Based.” ⁶⁰ Third-party providers of ancillary services made at market-based rates under a market-based rate tariff should report the information under the Product Type Name “MB—Market Based.” ⁶¹ As a result, we are revising the definitions in the EQR Data Dictionary associated with the Product Type Names “CB—Cost-Based” and “MB—Market Based” to include the sale of ancillary services. In addition, transmission providers or third-party providers should report their ancillary services contracts and transactions (if applicable) in the EQR under their Company Identifier, or CID, which is obtained through the Commission's Company Registration System. Non-public utility transmission providers making ancillary services sales should report them under the Product Type Name “NPU.” ⁶²

⁵⁹ Order No. 2001-I, 125 FERC ¶ 61,103 at P 35.

⁶⁰ Currently, the definition of the Product Type Name “CB—Cost Based” in the EQR Data Dictionary refers only to energy or capacity sold under a Commission-approved cost-based rate tariff. As specified in the redlined revisions to the EQR Data Dictionary in Attachment A, this definition will be revised to include ancillary services as well.

⁶¹ Currently, the definition of the Product Type Name “MB—Market Based” in the EQR Data Dictionary refers only to energy or capacity sold under the seller's Commission-approved market-based rate tariff. As specified in the redlined revisions to the EQR Data Dictionary in Attachment A, this definition will be revised to include ancillary services as well.

⁶² See Order No. 768, 140 FERC ¶ 61,232 at P 75.

25. In response to PJM's concern that reporting black start service information could implicate CEII and compromise the security of a public utility's assets, we clarify that filers should only report black start service information in the EQR at the seller level. That is, filers should not report unit-specific location information related to black start service in the EQR's unrestricted text fields.⁶³ The unrestricted (free-form) text fields include: FERC Tariff Reference (Field Numbers 19 and 48); Contract Service Agreement ID (Field Numbers 20 and 49); Rate Description (Field Number 37); Point of Receipt Specific Location (PORSL) (Field Number 40); and Point of Delivery Specific Location (PODSL) (Field Numbers 42 and 52). By submitting black start service information in the EQR only at the seller level and without unit-specific location information, filers will minimize the potential disclosure of sensitive information.

⁶³ For example, a seller of black start service should not report black start service unit-related information in the EQR that identifies the location of a unit, such as “CT Unit 1.” Instead, the seller should report data, consistent with the EQR Data Dictionary requirements, only at the seller-level of granularity.

B. FERC Tariff Reference (Field Numbers 19 and 48)

1. Proposed Rule

26. In the Proposed Rule, the Commission proposed that sellers input in Field Numbers 19 and 48 a subset of the tariff information that sellers currently use to report their tariff-related data in the eTariff system. In particular, the Commission proposed to require sellers to submit, in Field Numbers 19 and 48, four of the Business Names associated with their tariff (i.e., Tariff Identifier, Filing Identifier, Tariff Record Identifier, and Option Code) in the same format that they currently provide this data in the eTariff system. The Commission explained that this approach would allow greater consistency between the tariff designations used by sellers in the EQR and eTariff system. To effectuate this proposal, the Commission proposed to revise the definitions in Field Numbers 19 and 48 to add: “The FERC tariff reference must include four of the Business Names currently submitted in the eTariff system: Tariff Identifier, Filing Identifier, Tariff Record Identifier, and Option Code.” ⁶⁴

⁶⁴ Proposed Rule, 156 FERC ¶ 61,211 at P 10.

2. Comments

27. EEI and EPSA encourage the Commission to not require EQR filers to report the proposed eTariff fields for each contract and transaction because many contracts and transactions are not linked to tariffs or rate schedules in eTariff and, therefore, do not have the four Business Names.⁶⁵ EEI and EPSA argue that, because eTariff metadata is part of an XML filing protocol not currently meant for public consumption and some eTariff metadata may change with each eTariff submittal, eTariff metadata will be too confusing for EQR users as to these contracts and transactions.⁶⁶

⁶⁵ EEI Comments at 6; EPSA Comments at 8.

⁶⁶ EEI Comments at 6; EPSA Comments at 8.

28. In addition, EEI and EPSA state that extracting the four Business Names from eTariff into the EQRs for each contract and transaction would be difficult, requiring new cross-functional software and business practices and involving a substantial number of records on an ongoing basis for larger companies, and would provide little use to EQR filers or EQR users.⁶⁷ Instead, EEI and EPSA encourage the Commission to continue allowing EQR filers to report the common names of their tariffs and rate schedules in EQR Field Numbers 19 and 48.⁶⁸ EEI states that this would continue the current industry practice.⁶⁹

⁶⁷ EEI Comments at 6-7; EPSA Comments at 8.

⁶⁸ EEI Comments at 7; EPSA Comments at 3, 8.

⁶⁹ EEI Comments at 7.

29. EEI and EPSA posit that, for tariffs and rate schedules filed in eTariff, the Commission could instruct EQR filers to use the same common names in the EQR Tariff Reference fields as they use in eTariff.⁷⁰ EEI asserts that, for most tariffs and rate schedules filed in eTariff, the eTariff Record Title and Record Content Description should suffice. EEI states that the eTariff Record Title may also be needed to avoid confusion where an entity has multiple databases so as to enable EQR users to cross reference the EQR referenced tariff documents when available in eTariff.⁷¹

⁷⁰ Id.; EPSA Comments at 8.

⁷¹ EEI Comments at 7.

30. Duke points out two flaws with the Commission's proposed use of the four Business Names: (1) The Commission's proposal to incorporate eTariff metadata will be imperfect as to sectionalized tariffs; and (2) the proposed metadata may be difficult even for sellers to obtain, especially those that contract out their eTariff filings to third parties, as it involves data inside eTariff software.⁷²

⁷² Duke Comments at 5-6.

31. Duke recommends that, for rate schedules not filed in eTariff, the Commission require the use of the common name of the agreement and/or the rate schedule designation.⁷³ Duke suggests that, for unsectionalized tariffs and rate schedules, the Commission require the FERC Tariff Reference field to be completed with the Tariff Record Title and Record Content Description, which readily identify the relevant document.⁷⁴ Duke acknowledges that some companies may have more than one tariff and, as a result, more than one database, and in these cases, Duke recommends that the Tariff Title as well as the Tariff Record Title and Record Content Description must be included.⁷⁵ For a sectionalized tariff or rate schedule that exists in a tariff database by itself, Duke recommends that the Tariff Title would be logical to use in the FERC Tariff Reference field because it will lead users to the correct document in the database and its corresponding sections.⁷⁶ EPSA recommends the same approach.⁷⁷

⁷³ Id. at 7.

⁷⁴ Id. at 7-8.

⁷⁵ Id. at 8.

⁷⁶ Id. at 11.

⁷⁷ EPSA Comments at 9.

32. Duke suggests that, for sectionalized tariffs or rate schedules with a single parent or cover tariff record, the Tariff Record Title and Record Content Description of that Tariff Record should be included in the FERC Tariff Reference field because most eTariff users are likely to use such a naming convention.⁷⁸ Duke recommends that, for sectionalized tariff or rate schedules that have no parent or cover Tariff Record and are combined in the same tariff database with other tariff documents, it makes sense for the seller to include the Tariff Title, which identifies which database the tariff is located in, the common name of the document, and the Tariff Record Title and Record Content description of the first tariff record that comprises the tariff.⁷⁹

⁷⁸ Duke Comments at 11-12.

⁷⁹ Id. at 12.

33. EEI and Duke oppose including the eTariff Record Version Number. EEI argues that eTariff allows users to see which version was in effect at a given time, obviating the need to include the version in the EQR, and that reporting and updating the version numbers in the EQR would be burdensome and confusing.⁸⁰ Duke argues similarly.⁸¹ In addition, EEI suggests that the Commission should develop guidance regarding the use of common names through a technical conference or equivalent dialogue with the regulated community.⁸²

⁸⁰ EEI Comments at 7.

⁸¹ Duke Comments at 8-9.

⁸² EEI Comments at 7.

34. MISO and SPP state that they support the Commission's efforts to ensure that information reported in the EQR is consistent with eTariff information, and MISO states it does not take issue with the Commission's proposal to require sellers to input eTariff metadata into Field Numbers 19 and 48 in the same format that they currently provide this data in the eTariff system.⁸³ However, MISO, PJM, and SPP state that their current EQRs contain a number of conforming service agreements which are not currently filed through the eTariff system.⁸⁴ MISO, PJM, and SPP explain that, as a result, they would not be able to provide a Filing Identifier, Tariff Record Identifier, or Option Code in the FERC Tariff Reference fields for these agreements.⁸⁵ MISO and SPP request that the Commission revise its proposed changes to the EQR reporting requirements and the corresponding updates to the EQR Data Dictionary to not require the Filing Identifier, Tariff Record Identifier, and Option Code to be reported in the FERC Tariff Reference field for conforming service agreements not filed through the eTariff system.⁸⁶

⁸³ See MISO Comments at 5; SPP Comments at 2.

⁸⁴ MISO Comments at 5; PJM Comments at 11-12; SPP Comments at 3.

⁸⁵ MISO Comments at 5; PJM Comments at 11-12; SPP Comments at 3.

⁸⁶ MISO Comments at 5; SPP Comments at 3.

35. In addition, SPP seeks clarification that it can submit the Tariff Identifier assigned to SPP's Service Agreements Tariff for all service agreement contracts. SPP explains that that is all the information SPP can provide in the FERC Tariff Reference field for conforming service agreement contracts that are not submitted through the eTariff system.⁸⁷ Similarly, PJM states that it is unclear what data should be reported for conforming agreements in Field Numbers 19 and 48 or if the four Business Name reporting requirement applies only to agreements filed in the eTariff system.⁸⁸ PJM also seeks clarification on whether the requirement to report the four Business Names in Field Numbers 19 and 48 is prospective only, or whether sellers will be required to add the four Business Names previously reported in the EQR where such data is available.⁸⁹

⁸⁷ SPP Comments at 3.

⁸⁸ PJM Comments at 12.

⁸⁹ Id.

36. PJM also notes that, because sellers will have to manually enter each of the four Business Names into Field Numbers 19 and 48 for every agreement, which will not be the same for each agreement, requiring EQR filers to include the four Business Names in Field Numbers 19 and 48 will increase the number of hours necessary to prepare EQRs and, as a result, increase cost.⁹⁰

⁹⁰ Id.

37. Duke requests that the Commission provide at least a year for the adoption of any new EQR standard, in particular to adjust for the impact of the eTariff information.⁹¹ Duke also asks that the Commission hold a technical conference on the proposal to require eTariff information if the Commission declines to adopt Duke's proposal because it believes further questions will arise.⁹²

⁹¹ Duke Comments at 13.

⁹² Id.

3. Commission Determination

38. We decline to adopt the proposal in the Proposed Rule to require filers to submit in the EQR certain tariff-related information that they currently submit in the eTariff system.⁹³ As noted in the EQR Data Dictionary, the purpose of these required FERC Tariff Reference fields (Field Numbers 19 and 48) is to “cite the document that specifies the terms and conditions under which a Seller is authorized to make transmission sales, power sales or sales of related jurisdictional services at cost-based rates or market-based rates.” The document can take the form of a Commission-accepted tariff, rate schedule, or service agreement. Based on the comments received in response to the proposal to require the reporting of four of the Business Names associated with a filer's tariff (i.e., Tariff Identifier, Filing Identifier, Tariff Record Identifier, and Option Code), we conclude that this information would be difficult for filers to collect and report for each contract and transaction reported in the EQR. We find that, on balance, the costs of providing this information in Field Numbers 19 and 48 would outweigh the benefit of having such information in these fields. However, we emphasize that, although we will not require the specific eTariff information to be provided in Field Numbers 19 and 48, filers must nevertheless submit accurate and useful information in these fields,⁹⁴ consistent with prior Commission staff guidance.⁹⁵

⁹³ As a result, we will not implement the changes proposed in the Proposed Rule to the FERC Tariff Reference fields (Field Numbers 19 and 48) in the EQR Data Dictionary.

⁹⁴ Examples of inaccurate and unacceptable entries previously made by filers with respect to the FERC Tariff Reference fields include entries such as “Capacity Contract,” “1.Tariff,” “123,” or “ANOTHER TARIFF.”

⁹⁵ See Frequently Asked Questions on the EQR web page, www.ferc.gov.

39. We agree with EEI's and EPSA's suggestions to allow EQR filers to report the common names of their tariffs and rate schedules in the FERC Tariff Reference fields (Field Numbers 19 and 48). Therefore, in place of requiring the Business Names specified in the Proposed Rule, consistent with these suggestions and prior staff guidance, the FERC Tariff Reference fields should be populated using either the tariff designation or a truncated version of the section title of the seller's tariff document. For example, a section title using North American Energy Standards Board Business Names and adopted as the Commission's Business Names may include [Record Content Description]+[Tariff Record Title]+[Record Version Number]+[Option Code]. Each time a revision is made to the tariff being referenced, Field Numbers 19 and 48 must be updated to reflect the updated tariff. If the sales are at market-based rates, the tariff that is specified in the Commission order granting the seller market-based rate authority must be listed. Furthermore, filers should not submit a docket number for the FERC Tariff Reference field. Non-public utilities should specify “NPU” in Field Numbers 19 and 48.

C. Time Zone Field for Transmission Capacity Reassignments

1. Proposed Rule

40. The Commission sought comment in the Proposed Rule on requiring time zone information for transmission capacity reassignment transactions and adding options related to time zone information in Field Number 30. The Commission stated that, although Order No. 768 eliminated the Time Zone field from the Contract Data section of the EQR,⁹⁶ the Commission has determined that time zone information may be necessary for accurately reporting transmission capacity reassignment transactions, which are reported in the Contract Data section of the EQR. As a result, the Commission proposed to add options related to time zone information in Field Number 30 in the Contract Data section of the EQR.

⁹⁶ See Order No. 768, 140 FERC ¶ 61,232 at P 121.

2. Comments

41. Several commenters question the need for this requirement. EPSA and EEI point out that the Commission considered the input of industry stakeholders in Order No. 768 when it opted not to include the time zone data field in the Contract section of the EQR.⁹⁷ EPSA, ECC, and EEI question the need to specify time zones for transmission capacity reassignment transactions given that they are tracked on company OASIS sites, and ECC points out that the Balancing Authorities and Specific Locations are shown in the EQR.⁹⁸ EEI further states that the Commission has already provided guidance on tracking reassignments, specifying that the Time Zone field (Field Number 45) then in place should be completed as “N/A.” ⁹⁹ EPSA also believes that requiring use of time zone information will confuse competitive suppliers because multiple time zones may apply to a transaction and the applicable time zones may change over time.¹⁰⁰

⁹⁷ See EPSA Comments at 13; EEI Comments at 8.

⁹⁸ See EPSA Comments at 13; ECC Comments at 3; EEI Comments at 8.

⁹⁹ EEI Comments at 8.

¹⁰⁰ EPSA Comments at 13.

42. EPSA and EEI request that, if the Commission does require a time zone for transmission capacity reassignment transactions, the Commission: (1) Explain the reversal from Order No. 768; (2) clarify which time zone should be used for a given transaction and what to do if the time zone changes or there are multiple time zones involved in the transaction; and (3) simplify reporting by requiring only “prevailing” time.¹⁰¹ ECC similarly suggests that it would be easier to require filers to report in the prevailing time zone for the locations stated and to specify use of either Point of Receipt or Point of Delivery time zone for transmission service that spans multiple time zones.¹⁰² ECC also questions whether the Atlantic Time Zone should be an option when there may not be Commission-jurisdictional service in that time zone.¹⁰³

¹⁰¹ Id.; EEI Comments at 8.

¹⁰² ECC Comments at 3.

¹⁰³ Id.

3. Commission Determination

43. We adopt the proposal to require time zone information with respect to transmission capacity reassignments and the addition of options related to time zones in the Product Type Name (Field Number 30) in the EQR for use in reporting transmission capacity reassignments.¹⁰⁴ In Order No. 890, the Commission determined that transmission capacity agreements and the transmission capacity reassignments under those agreements must be reported in the EQR.¹⁰⁵ The Commission determined that the Commission's access to this data is vital to ensure effective monitoring and oversight.¹⁰⁶ Following the issuances of Order Nos. 890, 890-A, and 890-B, the Commission issued a notice providing guidance on how to report transmission capacity reassignment agreements and the transactions made pursuant to those agreements within the existing EQR structure.¹⁰⁷ Both transmission capacity reassignment agreements and the individual transmission capacity reassignments pursuant to those agreements are required to be reported in the Contract Data section of the EQR. The Commission explained that transmission providers would use “N/A” for the Time Zone field when reporting their transmission capacity reassignment agreements in the Contract Section of the EQR.¹⁰⁸ However, transmission capacity reassignments under those agreements were required to be reported with the relevant Time Zone field information.¹⁰⁹

¹⁰⁴ As a result, we will implement the changes proposed in the Proposed Rule, along with some further revisions, to the Product Type Name (Field Number 30) in the EQR Data Dictionary, as discussed below.

¹⁰⁵ Order No. 890, 118 FERC ¶ 61,119, at P 817, order on reh'g, Order No. 890-A, 121 FERC ¶ 61,297 (2007), order on reh'g, Order No. 890-B, 123 FERC ¶ 61,299 (2008), order on reh'g, Order No. 890-C, 126 FERC ¶ 61,228, order on clarification, Order No. 890-D, 129 FERC ¶ 61,126 (2009).

¹⁰⁶ Order No. 890, 118 FERC ¶ 61,119 at P 821.

¹⁰⁷ See Notice Providing Guidance on the Filing of Information on Transmission Capacity Reassignments in Elec. Quarterly Reports, 124 FERC ¶ 61,244 (2008).

¹⁰⁸ Id. PP 7-8.

¹⁰⁹ Id. PP 9 & 11.

44. In Order No. 768, the Commission eliminated the Time Zone field from the Contract Data section of the EQR, finding that it was unnecessary and that its elimination would reduce filers' burden, while continuing to require filers to report the time zone where the transaction took place in the Transaction Data section of the EQR.¹¹⁰ As noted above, individual transmission capacity reassignments are reported in the Contract Data section of the EQR. By removing time zone information altogether from the Contract Data section of the EQR in Order No. 768, the Commission inadvertently eliminated the ability for filers to report time zone information related to individual transmission capacity reassignments. Reinstating the requirement to report time zone information for transmission capacity reassignments is necessary to accurately identify when a transmission capacity reassignment took place and ensure that complete information is captured for transmission capacity reassignments in the Contract Data section.

¹¹⁰ Order No. 768, 140 FERC ¶ 61,232 at P 121.

45. To report the effective time zones for capacity reassignments, EQR filers can use the prevailing time zone options that will be added under Product Type Name (Field Number 30). “Prevailing Time” indicates that the time is adjusted according to the time of year for daylight savings. For example, Eastern Prevailing (EP) indicates the use of Eastern Standard (ES) between November and March and Eastern Daylight (ED) between March and November. We are not persuaded to adopt EPSA's suggestion to require only the use of “Prevailing Time” when reporting the Time Zone field. We note that filers have the option of reporting the prevailing time zone with respect to their transmission capacity reassignments, but prevailing time zone is not the only time zone option available to filers because other time zones may be applicable. In addition, we clarify that if multiple time zones apply or the applicable time zones change over time in terms of reporting transmission capacity reassignments, the filers should use the time zone that applies to the time zone at the Point of Delivery for transmission service. In response to ECC's question regarding whether the Atlantic Time Zone should be an option, we will keep “Atlantic Time Zone” as a time zone option given that this option is used by certain filers.

46. In addition, the “CR—Capacity Reassignment” option will remain in the list of options available under the Product Type Name field. This option was inadvertently omitted from the list of options available in Field Number 30 in the EQR Data Dictionary attached to the Proposed Rule. We remind transmission providers that they should continue to report their transmission capacity reassignment agreements in the EQR under the Product Type Name of “CR—Capacity Reassignment.”

D. Booked Out Transactions

1. Proposed Rule

47. In the Proposed Rule, the Commission explained that, based on a review of EQR data, submissions related to “Booked Out Power” can frequently contain inconsistent or inaccurate information and that these inconsistencies or inaccuracies can distort the price and volume information related to power sales that is reported in the EQR. The Commission emphasized that, without accurate reporting of booked out transactions, it is difficult to determine how much power is traded compared to how much power is actually delivered.¹¹¹

¹¹¹ Proposed Rule, 156 FERC ¶ 61,211 at P 13.

48. In this regard, the Commission stated that, based on the current EQR database configuration, it is not possible to differentiate book outs of energy from book outs of capacity because EQR filers do not have the option to distinguish between the two products. As a result, the Commission proposed in the Proposed Rule to replace the existing product name “Booked Out Power” in Appendix A of the EQR Data Dictionary with the product names “Booked Out Energy” and “Booked Out Capacity.” The Commission proposed that, accordingly, for book outs of energy, the EQR filer should report it under the product name “Booked Out Energy,” and for book outs of capacity, the EQR filer should report it under the product name “Booked Out Capacity.” Regarding the definitions in the EQR Data Dictionary, under the proposal, “Booked Out Energy” would be defined in Appendix A as: “Energy contractually committed for delivery but not actually delivered due to some offsetting or countervailing trade (Transaction only).” Similarly, “Booked Out Capacity” would be defined in Appendix A as: “Capacity contractually committed for delivery but not actually delivered due to some offsetting or countervailing trade (Transaction only).” ¹¹²

¹¹² Id. P 14.

49. In addition, the Commission proposed to clarify how booked out transactions should be reported, regardless of the number of parties involved in these transactions, using several examples. The first of these examples deals with a direct countervailing transaction, which occurs when two companies, both of whom are selling physical energy to each other for the same delivery period, mutually agree to exchange their physical delivery obligations to each other but maintain all other obligations, including payment. The second example the Commission provided relates to a curtailment, which can occur when one company is selling energy to another company and, in real time, the company buying the energy signals the seller to reduce the amount of energy it is providing to the buyer in exchange for a curtailment payment commensurate with the reduced production. The last example the Commission provided relates to a daisy chain, which occurs when there are at least three companies in a chain of energy sales and at least one company appears twice in that chain (e.g., as a seller and as a buyer).

2. Comments

50. EEI expresses concern that the proposed clarification regarding booked out transactions might be misread to impose new reporting requirements on a large number of filers, who would have to construct the information manually, when the Commission may be trying to address confusion that has arisen in only a handful of cases, such as legacy capacity contracts allowing book-outs of capacity.¹¹³ EEI and EPSA encourage the Commission to narrow the proposed clarification to avoid imposing what appears to be unintended new burdens on a large number of filers, including requiring filers to manually compile and report the information in the formats shown in the examples.

¹¹³ EEI Comments at 9.

51. With respect to the Proposed Rule's second example clarifying how to report the curtailment or reduction of purchased megawatts EPSA comments that, while the Commission proposes for the seller to report as a sale the reduced megawatts sold, with the balance reported as a book out, sellers may currently report these transactions as the total megawatts originally contracted for sale, and then separately report the megawatts ultimately booked out.¹¹⁴ EPSA states that, if the proposed reporting process is implemented, sellers may be required to revise the way they capture trade data in order to incorporate book outs on an individual hourly basis.¹¹⁵ EPSA adds that this could result in costly and burdensome changes to sellers' trade capture systems to implement this change, which may not be necessary to track megawatts sold.¹¹⁶

¹¹⁴ EPSA Comments at 9-10.

¹¹⁵ Id. at 10-11.

¹¹⁶ Id.

52. Furthermore, EPSA asserts that how a seller reports the transaction would depend on whether the transaction is a firm or non-firm sale. EPSA proposes that, if the contract quantity for a non-firm sale is curtailed or reduced, the seller should report the sale at the reduced quantity without reporting a booked out quantity for the reduction in the non-firm sale.¹¹⁷ EPSA does not set forth a specific proposal for dealing with firm sales, but notes that it has concerns with the Commission's approach. EPSA also explains that some sellers may not currently report the reduced megawatts as book outs because these transactions constitute a financial transaction for liquidated damages (which are not subject to EQR reporting), and that not all transactions will assess a penalty payment for a reduction in the megawatt quantity; for example, when the reduction is due to a transmission curtailment. EPSA states that characterizing these as book outs is a departure from current Commission guidance on EQR reporting and EPSA seeks clarification of whether the Commission intends to change its treatment of these types of transactions. EPSA urges the Commission to reconsider any such change.¹¹⁸

¹¹⁷ Id. at 11.

¹¹⁸ Id. at 11-12.

53. With respect to the example regarding daisy chain transactions, EPSA states that reporting book outs as described by the Commission may require sellers to revise the way they track trade data to incorporate book outs on an individual hourly basis, and that it could create additional administrative burden by requiring sellers to segregate trades into smaller pieces in order to report the transactions in the proposed manner. EPSA asks the Commission to reconsider its guidance.¹¹⁹

¹¹⁹ Id. at 12.

54. As to distinguishing the reporting of booked out capacity and energy transactions, EEI and EPSA request that the Commission provide examples.¹²⁰ ECC explains that capacity is not typically “Booked Out” in terms consistent with the Commission's definition. ECC explains its understanding that the Commission originally required “Booked Out Power” to be included in EQRs to ensure that markets were not being manipulated by traders and to ensure that sales affecting market prices were considered. ECC asserts that “Booked Out Power” sales are a significant determinant of energy market prices as energy marketers trade around their positions. ECC notes that this is not the case with the capacity market. ECC states that “Booked Out Power” does not need to be split into “Booked Out Energy” and “Booked Out Capacity” and that the examples of “Booked Out Power” shown by the Commission have always reflected energy sales. ECC adds that, in order to tell whether “Booked Out Power” is booked out energy or capacity, all that needs to be done is to look at the Rate Units associated with the sale.¹²¹ EPSA seeks clarification on whether capacity transactions being considered in the Proposed Rule are only those which occur in the organized wholesale capacity markets.¹²²

¹²⁰ EEI Comments at 9; EPSA Comments at 10.

¹²¹ ECC Comments at 4.

¹²² EPSA Comments at 9.

55. While ECC agrees with the first and third examples provided by the Commission in the Proposed Rule, it argues the Commission's suggested reporting of the second type of transaction (curtailment) is confusing and does not reflect the majority of actual curtailments. ECC explains that, in most cases, a curtailment occurs because there is a transmission constraint (or possibly the loss of generation) that precludes the energy sold and scheduled for delivery from being transmitted to the purchasing utility. ECC states that, if the Commission's example of curtailment were to occur, the purchasing utility would instead back off generation or sell energy, neither of which would normally be considered a curtailment.¹²³

¹²³ ECC Comments at 4-5.

56. ECC argues that the definition of “Booked Out Power” in the EQR Data Dictionary, which specifies that the “power is not actually delivered due to some offsetting or countervailing trade” is not applicable to curtailments because the lack of delivery was not due to an offsetting trade. Instead, ECC argues the cause and effect are transposed because the “offsetting trade” was due to the lack of delivery.¹²⁴

¹²⁴ Id. at 5.

57. ECC also notes that, in its experience, when curtailments occur, the original transaction is not changed in the trade capture system, so reporting the way the Commission suggests would be a difficult and presumably manual process. ECC agrees with the Commission that, because the “offsetting trade” entered into the purchaser's trade capture system is not a sale with a delivery obligation, the purchaser in this case would not be obligated to report the “sale” in its EQR. ECC thus seeks clarification that because, for most utilities, those “sales” are indistinguishable from actual sales in their trade capture system, it is permissible, but not required, to include such “sales” in utilities' EQRs.¹²⁵ In addition, ECC suggests that reporting of “Booked Out Power” be discussed at a future EQR User's Group meeting.¹²⁶ According to EPSA, there is no explanation of how booked out reductions should be reported if the seller, rather than the buyer, initiates the resulting reduction.

¹²⁵ Id. at 6.

¹²⁶ Id. at 5.

3. Commission Determination

58. We do not adopt the proposal to require filers to report booked out energy separately from booked out capacity in the EQR instead of reporting both of these booked out transactions as “Booked Out Power.” ¹²⁷ Upon consideration of the comments received, we believe that the burden of requiring filers to distinguish between these two types of transactions would outweigh the benefit of such a requirement. We acknowledge that booked out capacity transactions cannot be differentiated with certainty from booked out energy transactions without requiring these products to be reported separately.¹²⁸ However, the information reported as the Product Name (Field Number 31), Rate Units (Field Numbers 38 and 66), Standardized Quantity (Field Number 67), and Standardized Price (Field Number 68) with respect to these contracts and associated transactions can be used to distinguish between booked out energy and capacity transactions. For example, in Standardized Quantity (Field Number 67) booked out energy transactions should be reported as megawatt-hours, whereas booked out capacity transactions should be reported as megawatt-month in that same field.

¹²⁷ As a result, we will not implement the changes proposed in the Proposed Rule related to the product name “Booked Out Power” in the EQR Data Dictionary.

¹²⁸ See Proposed Rule, 156 FERC ¶ 61,211 at P 14.

59. Although we decline to adopt the proposal in the Proposed Rule, we will continue to consider this issue. In light of the comments received that reporting booked out transactions in a manner consistent with the examples in the Proposed Rule may differ from how sellers currently report their booked out transactions and may result in costly and burdensome changes,¹²⁹ we direct Commission staff to engage in further discussions regarding booked out transactions with industry at a future EQR Users Group meeting. These discussions will help inform any further guidance the Commission may provide on how to report these transactions in the EQR.

¹²⁹ See EPSA Comments at 11; EEI Comments at 9.

E. Other Issues

1. Comments

a. Timing & Implementation

60. EPSA requests that the Commission provide time to implement the proposed changes in the Proposed Rule as well as changes adopted in the June Order.¹³⁰ ECC encourages Commission staff to discuss implementation issues with utilities to develop a more appropriate estimate of the administrative burden involved in the proposed EQR changes.¹³¹ For example, ECC believes that the Commission understated the time required for transmission providers to implement the reporting of ancillary services transactions and for complying with the change in Product Name from “Booked Out Power” to “Booked Out Energy” and “Booked Out Capacity.” ¹³² As a result, ECC requests that the Commission add these burden estimates to the agenda of a future EQR Users Group meeting or technical conference.¹³³

¹³⁰ EPSA Comments at 3.

¹³¹ ECC Comments at 6-7.

¹³² Id. at 7.

¹³³ Id. at 7-8.

b. Future Changes

61. EPSA also asks that the Commission reconsider its plan to make future minor or non-material EQR changes directly via the Commission's website and, instead, consider adoption of any EQR changes through dialogue with industry stakeholders via an EQR/Data Collection Users Group, technical workshops, and/or notice-and-comment proceedings.¹³⁴

¹³⁴ EPSA Comments at 3.

c. Coordinating EQR and Data Collection Efforts

62. EPSA raises concerns about the potential for changes in this proceeding as well as the Data Collection proceeding in Docket No. RM16-17-000 ¹³⁵ to impact the same or linked systems but on different implementation schedules.¹³⁶ EPSA believes a more coordinated approach is appropriate. As a result, EPSA requests that the Commission clarify the extent of ongoing data collection efforts and their interrelationships and provides the following options to do so: (1) The Commission could view the changes as a whole and propose them collectively; or (2) the Commission could move forward with a final rule in the Data Collection proceeding before issuing a Notice for Comments on EQR filing revisions.¹³⁷ EPSA also encourages the Commission to examine its data collection requirements and the data received from all entities. EPSA suggests that, in doing so, the Commission should assess the effectiveness of the EQR Data Dictionary and whether a lack of clarity is the reason why companies are reporting data differently.¹³⁸

¹³⁵ Data Collection for Analytics & Surveillance and Market-Based Rate Purposes, Order No. 860, 84 FR 36390 (July 26, 2019), 168 FERC ¶ 61,039, at P 88 (2019), order on reh'g and clarification, Order No. 860-A, 85 FR 13012 (Mar. 6, 2020), 170 FERC ¶ 61,129 (2020).

¹³⁶ EPSA Comments at 4.

¹³⁷ Id. at 5-6.

¹³⁸ Id. at 6.

2. Commission Determination

63. We will implement the revisions and clarifications specified in this order regarding reporting time zone information for transmission capacity reassignments by April 30, 2021, when the Q1 2021 EQR filings are due. Accordingly, the revisions and clarifications must be applied to EQR filings beginning with the first quarter of 2021. In light of the adjustments to the EQR filing requirements made in this order as compared to the Proposed Rule, we adjust the burden calculations from those included in the Proposed Rule, as noted below. In addition, because we are not adopting the proposals to require transmission providers to report ancillary services transactions data or for filers to distinguish between “Booked Out Energy” and “Booked Out Capacity,” we do not need to discuss the burden estimates included in the Proposed Rule with regard to these proposals at a future meeting or conference, as suggested by ECC.

64. In response to EPSA's request that the Commission reconsider its plan to make future minor or non-material changes to the EQR by posting them directly to the Commission's website ¹³⁹ and, instead, to consider adoption of any changes to the EQR through dialogue with industry stakeholders in the form of EQR/data collection users groups, technical workshops, and/or notice-and-comment proceedings, we note that Commission staff and industry stakeholders can discuss possible future changes to the EQR, including minor or non-material changes, during EQR Users Group meetings. As stated in the December Order: “Commission staff has reinstated the EQR Users Group meetings, which will enable Commission staff and EQR users to engage in an ongoing dialogue about EQR-related issues, including possible future changes to the EQR filings requirements and the EQR Data Dictionary before those changes are implemented.” ¹⁴⁰

¹³⁹ See June Order, 155 FERC ¶ 61,280 at P 5; December Order, 157 FERC ¶ 61,180 at PP 40-43.

¹⁴⁰ December Order, 157 FERC ¶ 61,180 at P 2.

65. In response to EPSA, we note that the revisions and clarifications to the EQR reporting requirements addressed in this proceeding do not implicate the data collection processes established by Order No. 860 and, therefore, these two proceedings do not need to be considered collectively. As stated in Order No. 860, while market-based rate sellers may report to the relational database some of the same contracts they report in their EQRs, the information collected in these two different systems is not unnecessarily duplicative based on the differences between the two data collections.¹⁴¹

¹⁴¹ Order No. 860, 168 FERC ¶ 61,039 at PP 88-92 (explaining that the EQR only captures sales information whereas the relational database captures information about long-term firm purchases and sales, and why the information being collected in the relational database is necessary where there is overlap with information collected in the EQR).

III. Information Collection Statement

66. The Paperwork Reduction Act (PRA) ¹⁴² requires each federal agency to seek and obtain Office of Management and Budget (OMB) approval before undertaking a collection of information directed to ten or more persons or contained in a rule of general applicability. OMB regulations ¹⁴³ require approval of certain information collection requirements imposed by agency rules. Upon approval of a collection of information, OMB will assign an OMB control number and an expiration date. Respondents subject to the filing requirements of these proposals will not be penalized for failing to respond to this collection of information unless the collection of information displays a valid OMB control number.

¹⁴² 44 U.S.C. 3501-3520.

¹⁴³ 5 CFR 1320.

67. This order will affect public utilities and certain non-public utilities. The order requires filers to submit time zone information in connection with transmission capacity reassignment transactions.

68. There are approximately 2,196 public utilities and about 40 non-public utilities that currently file EQRs. About 405 of the 2,196 public utilities only submit data in the ID section of the EQR because they have no data to report in the Contract or Transaction Data sections of the EQR. We estimate that approximately 31 public utilities and three non-public utilities are currently reporting transmission capacity reassignment transactions and would be affected by the requirement to include the time zone information in connection with these transactions.

69. Burden Estimate: In general, the burden of preparing an EQR filing varies, depending on the complexity of a company's transactions. For example, if a company has a few long-term, cost-based rate contracts with a limited number of counterparties and few adjustments to price, counterparties, and sales locations, it will expend relatively little effort in complying with EQR filing requirements. If a company's sales activities become more complex, with more frequent adjustments to price and a greater variety of counterparties and sales locations, its technological capabilities for tracking its transactions tend to become more sophisticated.

70. The estimated burden ¹⁴⁴ and cost ¹⁴⁵ for the reporting requirements adopted in this order, follow.¹⁴⁶

¹⁴⁴ “Burden” is the total time, effort, or financial resources expended by persons to generate, maintain, retain, or disclose or provide information to or for a Federal agency. For further explanation of what is included in the information collection burden, refer to 5 CFR 1320.3.

¹⁴⁵ The estimated hourly costs (salary plus benefits) are based on the figures for May 2019 posted by the Bureau of Labor Statistics for the Utilities sector (http://www.bls.gov/oes/current/naics2_22.htm) and updated (for Dec 2019, issued March 19, 2020) for benefits information (http://www.bls.gov/news.release/ecec/nr0.htm). The hourly estimates for salary plus benefits are: (a) Legal (code 23-0000), $142.65; (b) Computer and mathematical (code 15-0000), $64.69; (c) Computer and information systems manager (code 11-3021), $101.58; (d) Information security analyst (code 15-1122), $71.47; (e) Auditing and accounting (code 13-2011), $56.66; and (f) Information and record clerk (43-4199), $41.03. The percentage of time each skill set contributes is: Legal, 12.5%; computer and mathematical, 37.5%; computer and information system managers, 16.7%; information security analysts, 12.5%; accountants and auditors, 12.5%; and information and record clerks, 8.3%. The corresponding estimated weighted hourly cost for wages and benefits is $78.48.

¹⁴⁶ The burden and cost estimates below do not include burden and cost associated with transmission providers reporting ancillary services transaction data, reporting eTariff data in the EQR, and distinguishing between booked out transactions because the Commission is not adopting those proposed requirements in this order.

For public and non-public utilities, the weighted hourly cost (rounded, for salary plus benefits) is $78.48.

Title: FERC-920, Electric Quarterly Report (EQR).

Action: Revision of currently approved collection of information.

OMB Control No.: 1902-0255.

Respondents: Public utilities and certain non-public utilities.

Frequency of Information: Initial implementation and quarterly updates.

Necessity of Information: The Commission's EQR reporting requirements must keep pace with market developments and technological advancements. Collecting and formatting the data as discussed in this order will provide the Commission with the necessary information to identify and address potential exercises of market power and better inform Commission policies and regulations.

Internal Review: The Commission has determined that the revisions and clarifications are necessary in light of technological advances in data collection processes. The Commission has assured itself, by means of its internal review, that there is specific, objective support for the burden estimate associated with the information requirements.

71. Interested persons may obtain information on the reporting requirements by contacting the Federal Energy Regulatory Commission, Office of the Executive Director, 888 First Street NE, Washington, DC 20426 [Attention: Ellen Brown, email: DataClearance@ferc.gov, or phone: (202) 502-8663].

72. Comments concerning the information collection adopted in the order, and the burden estimates, should be sent to the Commission in this docket. Comments may also be sent to the Office of Management and Budget, Office of Information and Regulatory Affairs, Washington, DC 20503 [Attention: Desk Office for the Federal Energy Regulatory Commission]. Please identify OMB Control Number 1902-0255 in the subject line of your comments, and send them to www.reginfo.gov/public/do/PRAMain. Using the search function under the “Currently Under Review field,” select Federal Energy Regulatory Commission, click “submit,” and select “comment” to the right of the subject collection.

IV. Environmental Analysis

73. The Commission is required to prepare an Environmental Assessment or an Environmental Impact Statement for any action that may have a significant adverse effect on the human environment.¹⁴⁷ The Commission has categorically excluded certain actions from these requirements as not having a significant effect on the human environment.¹⁴⁸ The actions proposed here fall within a categorical exclusion in the Commission's regulations, i.e., they involve information gathering, analysis, and dissemination.¹⁴⁹ Therefore, environmental analysis is unnecessary and has not been performed.

¹⁴⁷ Regulations Implementing the Nat'l Envtl. Policy Act of 1969, Order No. 486, 52 FR 47897 (Dec. 17, 1987), FERC Stats. & Regs. ¶ 30,783 (1987) (cross-referenced at 41 FERC ¶ 61,284).

¹⁴⁸ Id.

¹⁴⁹ 18 CFR 380.4.

V. Regulatory Flexibility Act

74. The Regulatory Flexibility Act of 1980 (RFA) ¹⁵⁰ generally requires a description and analysis of final rules that will have significant economic impact on a substantial number of small entities. The Commission is not required to perform this sort of analysis if the proposed activities within the final rule would not have such an effect.

¹⁵⁰ 5 U.S.C. 601-612.

The estimated total number of entities that would need to modify how they report transmission capacity reassignment information in the EQR is 34.¹⁵¹ We estimate that 24% of these entities fall within the RFA's definition of small.¹⁵²

¹⁵¹ These entities fall under the current definition of “Electric Bulk Power Transmission and Control” (NAICS code 2211221).

¹⁵² 5 U.S.C. 601(3) (citing to section 3 of the Small Business Act, 15 U.S.C. 632). Section 3 of the Small Business Act defines a “small business concern” as a business that is independently owned and operated and that is not dominant in its field of operation. 15 U.S.C. 632. The Small Business Administration's Size Standards at 13 CFR 121.201 define the maximum number of employees an entity and its affiliates may have to be considered small. The threshold for a small entity for Electric Bulk Power Transmission and Control (NAICS code 221121) is 500 employees.

75. The estimated average costs for each entity reporting transmission capacity reassignments would be minimal, requiring 13 hours or $1,020 in initial one-time costs, and 2 hours or $157 in ongoing annual costs. Accordingly, we find that the revised requirements set forth in this rule will not have a significant economic impact on a substantial number of small entities, and no regulatory flexibility analysis is required.

VI. Document Availability

76. In addition to publishing the full text of this document in the Federal Register, the Commission provides all interested persons an opportunity to view and/or print the contents of this document via the internet through FERC's Home Page (http://www.ferc.gov). At this time, the Commission has suspended access to the Commission's Public Reference Room, due to the proclamation declaring a National Emergency concerning the Novel Coronavirus Disease (COVID-19), issued by the President on March 13, 2020.

77. From FERC's Home Page on the internet, this information is available on eLibrary. The full text of this document is available on eLibrary in PDF and Microsoft Word format for viewing, printing, and/or downloading. To access this document in eLibrary, type the docket number excluding the last three digits of this document in the docket number field.

78. User assistance is available for eLibrary and the FERC's website during normal business hours from FERC Online Support at (202) 502-6652 (toll free at 1-866-208-3676) or email at ferconlinesupport@ferc.gov, or the Public Reference Room at (202) 502-8371, TTY (202) 502-8659. Email the Public Reference Room at public.referenceroom@ferc.gov.

VII. Effective Date and Congressional Notification

79. These regulations are effective September 14, 2020. The Commission has determined, with the concurrence of the Administrator of the Office of Information and Regulatory Affairs of OMB, that this rule is not a “major rule” as defined in section 351 of the Small Business Regulatory Enforcement Fairness Act of 1996. The rule will be provided to the Senate, House, the Government Accountability Office, and the Small Business Administration.

By the Commission.
Issued: June 18, 2020.
Nathaniel J. Davis, Sr.,
Deputy Secretary.

BILLING CODE 6717-01-P

[FR Doc. 2020-13675 Filed 7-14-20; 8:45 am]

BILLING CODE 6717-01-C